DEPARTMENT OF ENERGY

Environmental Management Site-Specific Advisory Board, Savannah River Site

AGENCY: Department of Energy.

ACTION: Notice of open meeting.

SUMMARY: This notice announces a meeting of the Environmental Management Site-Specific Advisory Board (EM SSAB), Savannah River Site. The Federal Advisory Committee Act (Pub. L. 92-463, 86 Stat. 770) requires that public notice of this meeting be announced in the Federal Register.

DATES: Monday, March 22, 2010 1 p.m.-5 p.m. Tuesday, March 23, 2010 8:30 a.m.-4 p.m.

ADDRESSES: Embassy Suites, 200 Stoneridge Drive, Columbia, SC 29210.

FOR FURTHER INFORMATION CONTACT: Sheron Smith, Office of External Affairs, Department of Energy, Savannah River Operations Office, P.O. Box A, Aiken, SC 29802; Phone: (803) 952-9480.

SUPPLEMENTARY INFORMATION:

Purpose of the Board: The purpose of the Board is to make recommendations to DOE-EM and site management in the areas of environmental restoration, waste management, and related activities.

Tentative Agenda

Monday, March 22, 2010

1 p.m. Combined Committee Session

5 p.m. Adjourn

Tuesday, March 23, 2010

8:30 a.m. Approval of Minutes, Agency Updates

Public Comment Session

Chair and Facilitator Updates

Waste Management Committee Report

Public Comment Session

12 p.m. Lunch Break

1 p.m. Strategic and Legacy Management Committee Report

Facility Disposition and Site Remediation Committee Report

Nuclear Materials Committee Report

Administrative Committee Report

Public Comment Session

4 p.m. Adjourn

If needed, time will be allotted after public comments for items added to the agenda and administrative details. A final agenda will be available at the meeting on Monday, March 22, 2010.

Public Participation: The EM SSAB, Savannah River Site, welcomes the attendance of the public at its advisory committee meetings and will make every effort to accommodate persons with physical disabilities or special needs. If you require special accommodations due to a disability, please contact Sheron Smith at least seven days in advance of the meeting at the phone number listed above. Written statements may be filed with the Board either before or after the meeting. Individuals who wish to make oral statements pertaining to agenda items should contact Sheron Smith's office at the address or telephone listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Sheron Smith at the address or phone number listed above. Minutes will also be available at the following website: http://www.srs.gov/general/outreach/srs-cab/srs-cab.html.

Issued at Washington, DC on March 1, 2010.
Rachel Samuel,
Deputy Committee Management Officer.

[FR Doc. 2010-4515 Filed 3-3-10; 8:45 am]

BILLING CODE 6450-01-P